SMALL BUSINESS ADMINISTRATION

Data Collection Available for Public Comments

ACTION: 60 Day notice and request for comments.

SUMMARY: The Small Business Administration (SBA) intends to request approval, from the Office of Management and Budget (OMB) for the collection of information described below. The Paperwork Reduction Act (PRA) requires agencies to publish a notice in the Federal Register concerning each proposed collection of information before submission to OMB, and to allow 60 days for public comment in response to the notice. This notice complies with that requirement.

DATES: Submit comments on or before May 28, 2019.

ADDRESSES: Send all comments to Lori Gillen, Director, All Small Mentor Protégé Program, Office of Government Contracting, Small Business Administration, 409 3rd Street NW, Washington, DC 20416.

FOR FURTHER INFORMATION CONTACT: Lori Gillen, Director, All Small Mentor Protégé Program, Office of Government Contracting, AllSmallMpp@sba.gov, Curtis B. Rich, Management Analyst, 202-205-7030 curtis.rich@sba.gov.

SUPPLEMENTARY INFORMATION: In 2016, based on authorities provided in the Small Business Jobs Act of 2010, and the National Defense Authorization Act for Fiscal Year 2013, the Small Business Administration established a Government-wide mentor-protégé program for all small business concerns, (the All Small Mentor Protégé Program) consistent with SBA's mentor-protégé program for Participants in SBA's 8(a) Business Development (BD) program. This information collection facilitates ongoing implementation and administration of that program. The collection of information consists of: SBA Form 2459, Mentor Protégé Agreement, which collects information to assist with evaluating the protégé's needs and goals as well as the mentor's ability to meet those needs; SBA Form 2460, Mentor Protégé Benefits Report, which collects information to determine the participants continuing eligibility to participate in the All Small Business Mentor Protégé Program and evaluate program performance, including the level of technical, management, and financial assistance the mentor provided to the protégé. Each mentor is also required to submit information to show that it is financially capable of carrying out its responsibilities to assist the protégé firm meet its goals. Finally, for those mentors and proteges that are involved in joint ventures, this information collection requires them to submit a copy of quarterly financial statements and performance of work reports to help SBA monitor compliance with performance of work requirements.

Both Forms 2459 and 2460 have been changed to collect additional information. Changes to Form 2459 include questions about other mentor protégé agreements and information that might lead to a finding of affiliation between the mentor and protege, and changes to Form 2460 include additional clarifying questions about joint ventures, contract offers, awards and performance, as well as information about subcontract awards and the protégé's revenue and/or staff growth.

Title: “Mentor Protégé Program”.

OMB Control Number: 3245-0393.

Description of Respondents: Small or large business concerns participating in the All Small Mentor Protégé program as a protégé or mentor, consistent with SBA's mentor-protégé program.

Form Number: SBA Forms 2459 and 2460.

Estimated Annual Responses: 3,750.

Estimated Annual Hour Burden: 5,850.

Curtis Rich,
Management Analyst.

[FR Doc. 2019-06062 Filed 3-28-19; 8:45 am]

BILLING CODE 8025-01-P